FEDERAL COMMUNICATIONS COMMISSION

47 CFR Parts 1, 54, 61, and 69

[CC Docket Nos. 96-262; 94-1; 99-249; 96-45; FCC 99-235]

Access Charge Reform, Price Cap Performance Review for Local Exchange Carriers, Low-Volume Long Distance Users, and Federal-State Joint Board on Universal Service

AGENCY: Federal Communications Commission.

ACTION: Proposed rule: comments requested.

SUMMARY: The Federal Communications Commission (FCC) issued a notice of proposed rulemaking regarding the modified integrated universal service and access charge reform proposal (modified proposal) submitted by the Coalition for Affordable Local and Long Distance Service (CALLS). After inter alia reviewing the comments and reply comments in response to the original integrated universal service and access charge reform proposal, the CALLS members submitted a modified proposal. As indicated in this proposed rule, interested parties may file comments and reply comments regarding the modified proposal.

DATES: Submit comments on or before March 30, 2000. Submit reply comments on or before April 13, 2000.

ADDRESSES: Submit electronic comments and other data to http://www.fcc.gov.e-file/ecfs.html. See SUPPLEMENTARY INFORMATION for file formats and other information about electronic filing.

Submit paper copies to the Commission's Secretary, Magalie Roman Salas, Office of the Secretary, Federal Communications Commission, 445 12th, S.W., TW-A325, Washington, D.C. 20554. See SUPPLEMENTARY INFORMATION for information on additional instructions for filing paper copies.

FOR FURTHER INFORMATION CONTACT: Joi Roberson Nolen, 202-418-1537.

SUPPLEMENTARY INFORMATION: By this Notice the Commission invites supplemental comment on the proposal of the Coalition for Affordable Local and Long Distance Service (CALLS) for universal service and interstate access charge reform. CALLS submitted its original proposal on July 29, 1999. On September 15, 1999, the Commission released a Notice of Proposed Rulemaking (NPRM) seeking comment on whether the Commission should adopt all or some portion of the CALLS proposal, or an alternative plan. See Access Charge Reform, Low-Volume Long Distance Users, Federal-State Joint Board on Universal Service, CC Docket Nos. 96-262, 94-1, 99-249 and 96-45, Notice of Proposed Rulemaking, FCC 99-235 (rel. Sept. 15, 1999) 64 FR 53648, Oct. 4, 1999. On March 8, 2000, the CALLS members filed a written ex parte submission containing a modified version of the proposal (modified proposal). A copy of the submission is available for inspection and copying during the weekday hours of 9:00 a.m. to 4:30 p.m. in the Commission's Reference Center, 445 12th St. S.W., Room CY-A257, Washington, D.C. or copies may be purchased from the Commission's duplicating contractor, ITS Inc. 1231 20th St. N.W., Washington D.C. 20036; (202) 857-3088. The complete text of the Notice including the modified proposal also may be obtained through the Worldwide Web, at http://www.fcc.gov. The Commission seeks comment on whether it should adopt all or some portion of the modified proposal.

In separate letters, the CALLS long-distance signatories have made a number of commitments to consumers with respect to the ways in which they would pass on the benefits they would receive if CALLS were adopted. Copies of the AT&T and Sprint letters, which were filed as written ex parte submissions on February 25, 2000, are available for inspection and copying during the weekday hours of 9:00 a.m. to 4:30 p.m. in the Commission's Reference Center, 445 12th St. S.W., Room CY-A257, Washington, D.C. or copies may be purchased from the Commission's duplicating contractor, ITS Inc. 1231 20th St. N.W., Washington D.C. 20036; (202) 857-3088. As noted, the complete text of the Notice including the letters also may be obtained through the Worldwide Web, at http://www.fcc.gov. The Commission seeks comment on the commitments made in these letters, and how the Commission should enforce them.

Regulatory Flexibility Analysis

The NPRM in this proceeding contained an Initial Regulatory Flexibility Analysis (IRFA) as required by the Regulatory Flexibility Act (RFA). See 5 U.S.C. 603; see also 5 U.S.C. 601 et seq., as amended by the Contract with America Advancement Act of 1996, Public Law 104-121, 110 Stat. 847 (1996) (CWAA). Title II of the CWAA is the Small Business Regulatory Enforcement Fairness Act of 1996 (SBREFA). This Notice sets forth substitute rules for those contained in the NPRM. The IRFA is therefore revised as follows.

As required by the RFA, this IRFA of the possible significant economic impact on small entities by the proposals in this Notice has been prepared. Written public comments are requested on the IRFA. These comments must be filed in accordance with the same filing deadlines as comments on the rest of this Notice, and should have a separate and distinct heading designating them as responses to the IRFA, to the Chief Counsel for Advocacy of the Small Business Administration (SBA) in accordance with the RFA. See 5 U.S.C. 603(a).

Legal Basis

This rulemaking action is supported by sections 4(i), 4(j), 201-205, 254, and 403 of the Communications Act of 1934, as amended, 47 U.S.C. 154(i), 154(j), 201-205, 254, and 403.

Description and Estimate of the Number of Small Entities to Which the Notice will Apply

The RFA generally defines the term “small entity” as having the same meaning as the term “small business.” In addition, the term “small business” has the same meaning as the term “small business concern” under the Small Business Act unless the Commission has developed one or more definitions that are appropriate for its activities. See 5 U.S.C. 601 (3) (incorporating by reference the definition of “small business concern” in 15 U.S.C. 632). A small business concern is one which: (1) Is independently owned and operated; (2) is not dominant in its field of operation; and (3) meets any additional criteria established by the SBA. The SBA has defined a small business for Standard Industrial Classification (SIC) category 4813 (Telephone Communications, Except Radiotelephone) to be a small entity that has no more than 1500 employees. See 13 CFR 121.201.

Total Number of Telephone Companies Affected

Price Cap Local Exchange Carriers

The Commission does not have data specifying the number of these carriers that are either dominant in their field of operations, are not independently owned and operated, or have more than 1,500 employees, and thus is unable at this time to estimate with greater precision the number of price cap LECs that would qualify as small business concerns under the SBA's definition. However, there are only 13 price cap LECs. Consequently, significantly fewer than 13 providers of local exchange service are estimated to be small entities or small price cap LECs that may be affected by these proposals. Although small price cap LECs have been included in this RFA analysis, this RFA action has no effect on Commission analyses and determinations in other, non-RFA contexts. In particular, treatment here of small price cap LECs as “non-dominant” for SBA size standards has no effect on Commission determinations of “dominance” in other, common carrier, contexts.

Competitive Local Exchange Carriers

Neither the Commission nor the SBA has developed a definition of small providers of local exchange service. The closest applicable definition under SBA rules is for telephone telecommunications companies other than radiotelephone (wireless) companies. See Standard Industrial Classification (SIC) Code 4813. The most reliable source of information regarding the number of competitive LECs nationwide of which the Commission is aware appears to be the data that the Commission collects annually in connection with the Telecommunications Relay Service (TRS). According to the Commission's most recent data, 129 companies reported that they were engaged in the provision of either competitive access provider services or competitive local exchange carrier services. See FCC, Common Carrier Bureau, Carrier Locator: Interstate Service Providers, Figure 1 (number of carriers paying into the TRS Fund by type of carrier) (Jan. 1999). The Commission does not have data specifying the number of these carriers that are either dominant in their field of operations, are not independently owned and operated, or have more than 1,500 employees, and thus is unable at this time to estimate with greater precision the number of competitive LECs that would qualify as small business concerns under the SBA's definition. Consequently, the Commission estimates that fewer than 129 providers of local exchange service are small entities or small competitive LECs that may be affected by these proposals.

Description of Projected Reporting, Recordkeeping, and Other Compliance Requirements

The revised CALLS proposal would require price cap LECs to file with the Universal Service Administration Corporation (USAC) additional information pertaining to line counts by zone and customer class, revenue data, and information regarding zone boundaries. Competitive LECs would also have to file with USAC line counts by zone and customer class. The filings are on a quarterly basis. Otherwise, it is not clear whether, on balance, the proposals will increase or decrease price cap LECs' administrative burdens.

Steps Taken To Minimize Significant Economic Impact on Small Entities, and Significant Alternatives Considered

The proposals made by CALLS could have varying positive or negative impacts on price cap LECs, including any such small carriers. The alternative to consideration of adopting the CALLS proposal at this time would be to continue in effect the existing access charge and universal service fund rules. Public comments is welcomed on modifications of the CALLS proposal rules that would reduce any potential impacts on small entities. Specifically, suggestions are sought on different compliance or reporting requirements that take into account the resources of small entities; clarification, consolidation, or simplification of compliance and reporting requirements for small entities subject to the rules; and whether waiver or forbearance from the rules for small entities is feasible or appropriate. Comments should be supported by specific economic analysis.

Federal Rules That May Duplicate, Overlap, or Conflict With the Proposed Rules

None.

Paperwork Reduction Act

The NPRM released September 15, 1999 contained either a proposed or modified information collection. As part of its continuing effort to reduce the paperwork burden, the Commission invites the general public and the Office of Management and Budget (OMB) to take this opportunity to comment on the following information collections contained in the proposal published in the NPRM as modified by the modified proposal herein, as required by the Paperwork Reduction Act of 1995, Public Law 104-13. Public and agency comments are due at the same time as other comments on the Notice; OMB comments are due 60 days from the date of publication of the Notice in the Federal Register. Comments are requested concerning (a) whether the proposed collection of information is necessary for the proper performance of the functions of the Commission, including whether the information shall have practical utility; (b) estimates of the collection burden; (c) ways to enhance the quality, utility, and clarity of the information collected; and (d) ways to minimize the burden of the collection of information on the respondents, including the use of automated collection techniques or other forms of information technology.

Filing Comments

Pursuant to §§ 1.415 and 1.419 of the Commission's rules, 47 CFR 1.415, 1.419, interested parties may file comments on or before March 30, 2000. Interested parties may file reply comments on or before April 13, 2000. Comments may be filed using the Commission's Electronic Comment Filing System (ECFS) or by filing paper copies. See Electronic Filing Documents in Rulemaking Proceedings, 63 FR 24,121 (May 1,1998).

Comments filed through the ECFS can be sent as an electronic file via the Internet to <http://www.fcc.gov.e-file/ecfs.html>. Commenters must transmit one electronic copy of the comments to each docket or rulemaking number referenced in the caption. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address.” A sample form and directions will be sent in reply. Parties who choose to file by paper must file an original and four copies of each filing. Commenters must submit two additional copies for each additional docket or rulemaking number. All filings must be sent to the Commission's Secretary, Magalie Roman Salas, Office of the Secretary, Federal Communications Commission, 445 12th Street, S.W., TW-A325, Washington, D.C. 20554.

Parties also must send three paper copies of their filing to Wanda Harris, Competitive Pricing Division, 445 12th Street S.W., Fifth Floor, Washington, D.C. 20554. In addition, commenters must send diskette copies to the Commission's copy contractor, ITS, Inc., 1231 20th Street, N.W., Washington, D.C. 20037.

List of Subjects

47 CFR Part 1

Administrative practice and procedure, Communications common carriers, Telecommunications.

47 CFR Part 54

Reporting and recordkeeping requirements, Telecommunications, Telephone.

47 CFR Part 61

Access charges, Communications common carriers, Telephone.

47 CFR Part 69

Communications common carriers, Telephone.

Federal Communications Commission.
Carol Mattey,
Deputy Chief, Common Carrier Bureau.

[FR Doc. 00-6425 Filed 3-14-00; 8:45 am]

BILLING CODE 6712-01-P